DEPARTMENT OF THE INTERIOR

Fish and Wildlife Service

[FWS-R9-FHC-2008-N0212; 71490-1351-0000-L5]

Marine Mammals; Incidental Take During Specified Activities

AGENCY: Fish and Wildlife Service, Interior.

ACTION: Notice of receipt of application and proposed incidental harassment authorization; request for comments.

SUMMARY: We, the Fish and Wildlife Service (Service), have received an application from the Alaska Department of Transportation and Public Facilities and the Aleutians East Borough for authorization to take small numbers of marine mammals by harassment incidental to the Akutan Airport, Alaska—Airport Construction and Hovercraft Operation in Akutan and Unalaska, Alaska. In accordance with provisions of the Marine Mammal Protection Act of 1972 (MMPA), as amended, we request comments on our proposed authorization for the applicant to incidentally take, by harassment, small numbers of northern sea otters (Enhydra lutris kenyoni) for a period of 1 year beginning in the first quarter of 2009. We anticipate no take by injury or death and include none in this proposed authorization, which would be for take by harassment only.

DATES: Comments and information must be received by September 26, 2008.

ADDRESSES: You may submit comments by any of the following methods:

1. By mail to: Douglas Burn, Office of Marine Mammals Management, U.S. Fish and Wildlife Service, 1011 East Tudor Road, Anchorage, AK 99503.

2. By fax to: 907-786-3816.

3. By telephone at Fish and Wildlife Service, Office of Marine Mammals Management, 907-786-3807 or 1-800-362-5148.

4. By electronic mail (e-mail) to: R7_MMM_Comment@FWS.gov. Please submit comments as an ASCII file avoiding the use of special characters and any form of encryption. Please also include your name and return address in your message. If you do not receive a confirmation from the system that we have received your message, contact us directly at the telephone numbers above.

5. By hand-delivery to the above address.

FOR FURTHER INFORMATION CONTACT: To request copies of the application, the list of references used in this notice, and other supporting materials, contact Douglas Burn at the address or telephone numbers in ADDRESSES, or by e-mail at Douglas_Burn@FWS.gov.

SUPPLEMENTARY INFORMATION:

Background

Sections 101(a)(5)(A) and (D) of the MMPA, as amended (16 U.S.C. 1371(a)(5)(A) and (D)), authorize the Secretary of the Interior to allow, upon request, the incidental, but not intentional, taking of small numbers of marine mammals by U.S. citizens who engage in a specified activity (other than commercial fishing) within a specified geographical region provided that we make certain findings and either issue regulations or, if the taking is limited to harassment, provide a notice of a proposed authorization to the public for review and comment.

We may grant authorization to incidentally take marine mammals if we find that the taking will have a negligible impact on the species or stock(s), and will not have an unmitigable adverse impact on the availability of the species or stock(s) for subsistence uses. As part of the authorization process, we prescribe permissible methods of taking and other means of affecting the least practicable impact on the species or stock and its habitat, and requirements pertaining to the monitoring and reporting of such takings.

The term “take,” as defined by the MMPA, means to harass, hunt, capture, or kill, or to attempt to harass, hunt, capture, or kill any marine mammal. Harassment, as defined by the MMPA, means “any act of pursuit, torment, or annoyance which (i) has the potential to injure a marine mammal or marine mammal stock in the wild [the MMPA calls this Level A harassment], or (ii) has the potential to disturb a marine mammal or marine mammal stock in the wild by causing disruption of behavioral patterns, including, but not limited to, migration, breathing, nursing, breeding, feeding, or sheltering [the MMPA calls this Level B harassment].”

The terms “small numbers,” “negligible impact,” and “unmitigable adverse impact” are defined in 50 CFR 18.27, the Service's regulations governing take of small numbers of marine mammals incidental to specified activities. “Small numbers” is defined as “a portion of a marine mammal species or stock whose taking would have a negligible impact on that species or stock.” “Negligible impact” is defined as “an impact resulting from the specified activity that cannot be reasonably expected to, and is not reasonably likely to, adversely affect the species or stock through effects on annual rates of recruitment or survival.” “Unmitigable adverse impact” is defined as “an impact resulting from the specified activity (1) that is likely to reduce the availability of the species to a level insufficient for a harvest to meet subsistence needs by (i) Causing the marine mammals to abandon or avoid hunting areas, (ii) directly displacing subsistence users, or (iii) placing physical barriers between the marine mammals and the subsistence hunters; and (2) that cannot be sufficiently mitigated by other measures to increase the availability of marine mammals to allow subsistence needs to be met.”

Section 101(a)(5)(D) of the MMPA established an expedited process by which citizens of the United States can apply for an authorization to incidentally take small numbers of marine mammals where the take will be limited to harassment. Section 101(a)(5)(D)(iii) establishes a 45-day time limit for Service review of an application, followed by a 30-day public notice and comment period on any proposed authorizations for the incidental harassment of marine mammals. Within 45 days of the close of the comment period, we must either issue or deny issuance of the authorization. We refer to these authorizations as Incidental Harassment Authorizations (IHAs).

Summary of Request

On July 9, 2008, we received a joint application from the Alaska Department of Transportation and Public Facilities and the Aleutians East Borough (Applicants) for the taking by harassment of northern sea otters (Enhydra lutris kenyoni) incidental to the Akutan Airport, Alaska—Airport Construction and Hovercraft Operation (Project). Under the proposed action, the Applicants would construct a new airport to serve the community of Akutan on the southwestern portion of Akun Island, approximately 7 miles east of the community. Transport to and from Unalaska would be accomplished by hovercraft operations. Access to the Akun airport location would be provided by hovercraft from the City of Akutan to Surf Beach, which offers a protected landing area. Marine service by hovercraft between the community of Akutan and Surf Bay on Akun Island would satisfy passenger comfort and weather operability goals. When not in use, the hovercraft would be stored in a building at the head of Akutan Harbor. Staff would access the hovercraft storage area at the head of the harbor by traveling in a skiff. A 3,000-foot-long road would connect the hovercraft landing pad on Surf Beach to the runway located on the bench above the beach. A diesel bus would be used to transport passengers between the hovercraft and aircraft. The bus would be fueled onsite and stored at the airport when not in use.

A detailed description of the proposed action is contained in a Final Environmental Assessment (FEA) and Finding of No Significant Impact/Record of Decision (FONSI/ROD) prepared by the Applicants for the Federal Aviation Administration (FAA) and issued in December 2007 (73 FR 4040; January 23, 2008). A Biological Opinion for the proposed Akutan Airport Project was issued by the Service in May 2007.

Description of the Activity

Akutan Airport, Alaska—Airport Construction and Hovercraft Operation

a. Timing of Construction and Hovercraft Operation

Construction of the airport and related transportation of construction materials will commence during the second quarter (between April and June) of 2009 and continue until the fourth quarter (between October and December) of 2010. Hovercraft testing may commence as early as the first quarter (between January and March) of 2009, with sustained operations commencing in the fourth quarter of 2010, after completion of construction.

b. Geographic Location of Action

The community of Akutan is located on a small bay on Akutan Island in the eastern region of the Aleutian Islands (Figure 1). The city of Akutan has a population of about 741. The community is located 35 miles east of Unalaska and 766 miles southwest of Anchorage. The proposed location for the new airport to serve the community of Akutan is on the southwestern portion of Akun Island, approximately 7 miles east of the community. The hovercraft route will run between the community of Akutan, across Akun Strait, to a landing site on the shore of Surf Bay on Akun Island.

BILLING CODE 4310-55-P

BILLING CODE 4310-55-C

Description of Habitat and Marine Mammals Affected By the Activity

Three monthly surveys for sea otters were conducted in winter (January-March) 2006 as part of the field investigations for the Akun Alternative by HDR Alaska, Inc. in Akutan Harbor, Akun Strait, and Surf Bay along the proposed Akun airport hovercraft route. Sea otter numbers were highest in January (22), with declines in February (17), and by March, only 7 otters were observed. Preferred habitat appeared to include protected areas in Akutan Harbor near the community of Akutan and along nearshore habitats at Akun and Green Island. Most of the otters sighted were individuals, and only one female with a pup was observed during the winter surveys. A detailed description of the habitat, status, distribution, and seasonal distribution of northern sea otters is contained in the FEA, the Biological Assessment for the proposed IHA, and the Biological Opinion (FWS 2007) for the proposed Akutan Airport Project.

Status and Distribution of Affected Species

In North America, the northern sea otter is found along the coasts of Washington, British Columbia, and Alaska. Present distribution extends from the north coast of Washington State into the north Vancouver Island area of British Columbia. In Alaska, northern sea otters occur in the coastal waters from southeast Alaska to the Aleutian Island chain (Riedman and Estes 1990). Currently there are three population stocks of northern sea otters in Alaska. Since the mid-1980s, the southwest population stock has undergone an overall 55-67 percent decline (Doroff et al. 2003; Burn et al. 2003; Burn and Doroff 2005; Estes et al. 2005; USFWS 2005). The animals found in the Aleutian Islands have experienced the greatest declines. More specifically, the population in the Rat Island group, located in the central Aleutian Island chain, declined by about 94 percent; aerial survey counts of the Rat Island group decreased from 270 in 1959 to 11 in 2000 (Kenyon 1969; Doroff et al. 2003). The reasons for this decline are not well understood and are under investigation. Consequently, the southwestern Alaska distinct population segment (DPS) of northern sea otters was listed as threatened under the Endangered Species Act of 1973 (ESA), as amended (16 U.S.C. 1531 et seq.), in August 2005 (70 FR 46366; August 9, 2005).

Potential Impacts of the Akutan Airport, Alaska—Airport Construction and Hovercraft Operation on Sea Otters

The proposed activities have the potential to disturb resting and foraging activities of sea otters, particularly in waters that are protected in the near shore habitat, which is used for resting, pup rearing, and foraging. The incremental effects of the hovercraft operation will be minimal in Akutan Harbor, which presently has considerable amounts of vessel traffic. In contrast, Surf Bay has relatively little vessel traffic. This fact may explain why surveys indicate that the majority of sea otters observed along the hovercraft route were in the proximity of Surf Bay. As a result, we would expect most of the impacts from incidental harassment to occur in the Surf Bay area.

The response of marine mammals to airport construction and hovercraft operations varies among species. Sea otters have not been reported as particularly sensitive to sound and/or movement disturbance, especially in comparison to other marine mammals such as pinnipeds (U.S. Air Force and USFWS 1988; Efroymson and Suter 2001). However, observations of sea otters indicate their responses to disturbance are highly variable (A. Doroff, USFWS, pers. comm.). If any sea otters are present during project operations, some of them may be temporarily disturbed by noise or hovercraft operating in the area. This could result in an otter entering the water from land and/or diving, which they do as part of the normal behavior pattern. The short-term displacement of any hauled-out animals that is likely to occur as a result of project noise and personnel is not anticipated to affect the overall fitness of any individual animal.

Potential Effects on Habitat

Hovercraft landings will be constructed primarily in areas away from intertidal and subtidal areas to avoid adverse effects on northern sea otters and their habitat. Surf Beach landing site construction would impact about 0.4 intertidal acres and about 0.01 subtidal acres. Construction at the head of Akutan Harbor would impact about 0.1 intertidal acres and about 0.6 subtidal acres.

Potential Impacts on Subsistence Needs

In the Aleutian Islands, rural residents use a variety of plant and animal resources for subsistence purposes. The MMPA provides for a subsistence take of marine mammals by Alaska Natives. Although northern sea otters are harvested for subsistence purposes in the Aleutians, information from the Service's marine mammal Marking, Tagging, and Reporting Program (MTRP) indicates that residents of Akutan harvest less than one sea otter per year, on average. We do not anticipate that the project described in this application will have any adverse effect on subsistence uses or needs.

Mitigation Measures

As described in correspondence between FAA and the Service (FAA 2007; USFWS 2007), the Applicants will implement the following measures to avoid, minimize, and mitigate the effects of the proposed action on northern sea otters:

a. A Hovercraft Will Be Used to Transport Passengers To and From the Airport

As described in the Biological Assessment, hovercrafts produce less wake and less underwater noise than other marine vessels. Peer-reviewed scientific literature concludes that a hovercraft is considerably quieter underwater than a similar-sized conventional vessel, and that hovercraft may be an attractive alternative to conventional vessels if underwater sounds cause concerns. In-air sound may constitute a source of disturbance for listed sea otters; however, the use of ramp-up and power-down procedures and the avoidance of areas of sea otter concentrations will minimize any potential disturbance.

b. The Hovercraft Landings Will Be Located To Minimize Impacts to Intertidal and Subtidal Areas

Hovercraft landings will be constructed primarily in areas away from intertidal and subtidal areas to avoid adverse effects on northern sea otters and their habitat. Surf Bay landing site construction would impact about 0.4 intertidal acres and about 0.01 subtidal acres. Construction at the head of Akutan Harbor would impact about 0.1 intertidal acres and about 0.6 subtidal acres. Such construction is likely to be less intrusive with respect to sea otter habitat than construction of fixed, in-water docks or other related facilities.

c. No Dredging or Pile Driving Is Anticipated During the Construction of the Hovercraft Landings

Both dredging and pile driving possess the potential to harass northern sea otters due to habitat or noise disturbance. We anticipate that the use of a hovercraft will avoid the need to construct in-water facilities such as moorings, piers, or docks that could require dredging or pile driving.

d. The Hovercraft Will Be Operated Pursuant to a Route Operational Manual, Which Will Dictate the Avoidance of Sensitive Areas and Species

As discussed in the Biological Assessment, the Applicants will develop a Route Operational Manual in consultation with the Service. The purpose of the Route Operational Manual is to develop hovercraft routes and operational procedures that avoid and minimize the likelihood of northern sea otter disturbance. As described below, the Applicants propose to expedite development of the Route Operational Manual to ensure the proposed action avoids adverse effects to listed northern sea otters and other protected marine mammals. The Route Operational Manual must have our approval prior to initiation of hovercraft operation, and operator compliance with the Route Operational Manual will be required as a condition of airport design approval and Clean Water Act 404 permit issuance.

e. Expedite Completion of the Route Operation Manual

The Applicants propose to expedite completion of a Route Operation Manual, which will be developed in consultation with the Service, the National Marine Fisheries Service (NMFS), the U.S. Coast Guard, and FAA. The Route Operation Manual will outline specific, detailed procedures to avoid and minimize impacts to sea otters. The Route Operation Manual will not only identify hovercraft routes, but it will also provide a clearly written protocol that all hovercraft operators will be required to follow during hovercraft operations. The Applicants will commence developing a draft Route Operation Manual within 60 days after issuance of the IHA. The Applicants will submit a final Route Operation Manual to the agencies for review and approval within 60 days after receipt of all agency comments on the draft.

During Route Operation Manual development, the applicant proposes to consult with the hovercraft manufacturer to insure that hovercraft operations occur in the least intrusive manner possible. Through these discussions, the parties and the manufacturer may identify additional, cost-effective measures to further reduce vessel noise.

f. All Fueling and Hovercraft Maintenance Activities Will Be Conducted to the Maximum Extent Feasible at Least 100 Feet Away From Akutan Harbor and Surf Bay, and Fuel Storage Will Be at Least 100 Feet Away From Akutan Harbor and Surf Bay

As discussed in the Biological Assessment, northern sea otters are susceptible to oiling due to fuel spills because they depend on their insulation of dense fur to keep warm. They likewise may ingest oil during grooming and feeding. To address this issue, the Applicants propose to conduct all fueling activities at the maximum distance feasible (i.e., at least 100 feet away from Akutan Harbor and Surf Bay). Fuel storage will also occur at least 100 feet away from these locations. The Applicants will comply with all applicable Federal and State fuel handling and storage requirements, further reducing the risk that any spill reaches sensitive northern sea otter habitat. To address the risk of spills or contamination associated with hovercraft maintenance, the Applicants propose to conduct all maintenance activities either on hovercraft landing areas, above inter-tidal or sub-tidal areas, or in the hovercraft storage building.

g. Research Activities To Assess the Potential Effects of Hovercraft Operations on Northern Sea Otters

Given the uncertainty associated with the potential effects of hovercraft operations on northern sea otters, the applicant will undertake research efforts to evaluate in detail the effects of hovercraft noise on northern sea otter behavior and physiology. Information collected through research on hovercraft operations at Cold Bay may augment, and potentially obviate the need for, certain research efforts at Akutan. Appendix A to the September 27, 2007, letter from FAA to the Service (FAA 2007) discusses in detail the proposed study design and methods for this research effort.

To evaluate the potential impacts of hovercraft operations on northern sea otters in the Akutan Bay region, the applicant will conduct a study of sea otter movements and diving behaviors in the project area. The study proposes using time-depth recorders and Very High Frequency (VHF) radio-transmitters to evaluate movement and dive patterns before and after the hovercraft becomes operational. The Applicants propose to develop and implement a final study plan in consultation with the Service. The Applicants will fund such project and will strive to involve the Service, local community members, and native organizations in these research activities.

h. Establishment of Northern Sea Otter Avoidance Areas

The Applicants will identify northern sea otter avoidance areas in consultation with the Service. These avoidance areas will serve to help delineate areas of likely northern sea otter occurrence to minimize disturbance and or displacement of animals. During the first year of operation, the avoidance areas will be periodically surveyed and monitored, in association with hovercraft operation. A detailed description of monitoring requirements is provided in the Monitoring and Reporting sections below.

i. Hovercraft Speed and Course Alteration

If a northern sea otter is observed within a set distance (e.g., a minimum of 1,200 feet) of the hovercraft (distances to be determined based on consultation with the Service) and based on its position and the relative course of travel is likely to approach the hovercraft, the hovercraft's speed or course will, when practicable and safe, be changed to avoid impacts to the species. Northern sea otter activities and movements relative to the hovercraft will be closely monitored to ensure that an animal does not (1) travel within a set distance (e.g., a minimum of 600 feet) of a departing hovercraft or (2) travel within a set distance (e.g., a minimum of 300 feet) of an approaching hovercraft (the “potential disturbance area” or “PDA”). If either of these events occur, further mitigation measures must be taken (e.g., further course alterations or power down).

j. Power-Down Procedures

A power down involves decreasing the speed of the hovercraft to avoid interactions with, and potential disturbance of, northern sea otters. If a northern sea otter is detected (1) within a set distance (e.g., a minimum of 600 feet) of a departing hovercraft or (2) within a set distance (e.g., a minimum of 300 feet) of an approaching hovercraft, and the vessel's course or speed cannot be changed to avoid having the animal enter the PDA, then the hovercraft will, consistent with applicable design and operational requirements, decrease its speed to the slowest practicable speed before the animal enters the PDA. Power-down procedures will be developed in consultation with the hovercraft manufacturer and the Service to ensure procedures are safe and within the operating parameters of the hovercraft.

k. Ramp-Up Procedures

The applicant will implement “ramp-up'” procedures when starting up the hovercraft, to provide additional protection to northern sea otters located near hovercraft landing areas. These procedures will allow individual animals to vacate the area to reduce the risk of injury, and to further reduce the risk of potentially startling sea otters with a sudden intensive sound. Ramp-up would occur such that the sound associated with hovercraft operations would increase at a gradual rate, consistent with applicable design and operational requirements, and sufficient to allow the hovercraft to leave the ramp using the slope of the ramp in conjunction with minimum power. The Applicants propose to confer with the hovercraft operator to develop ramp-up procedures consistent with this guideline.

l. Night-Time Operations

The Applicants will work with the Service to develop night-time operating procedures to avoid and minimize impacts to northern sea otters and other species.

Findings

We propose the following findings regarding this action:

Small Numbers Determination and Estimated Take by Incidental Harassment

For small take analysis, the statute and legislative history do not require a specific numbers analysis, leaving the determination of “small” to the agency's discretion. Factors considered in our small numbers determination include:

(1) The number of northern sea otters inhabiting the waters in the impact area is expected to be small relative to the size of the southwest Alaska population stock. Skiff-based surveys conducted in 2006 recorded up to 22 otters in proximity to the proposed hovercraft route. The current estimate for the size of the southwest Alaska population stock is approximately 48,000 individuals (USFWS 2008). The number of northern sea otters that could potentially be taken by harassment in association with the proposed activity is less 0.05 percent of the estimated population size.

(2) The area where the activity will occur is small relative to the range of the southwest Alaska population stock of sea otters. Surf Bay on Akun Island is approximately 7 km in length. The southwest Alaska population stock ranges from Attu Island in the west to lower Cook Inlet in the east, a distance of more than 2,700 km. Therefore, Surf Bay comprises less than 0.3 percent of the total range of the southwest Alaska population stock of the northern sea otter.

(3) The area where the activity will occur will impact a relatively small fraction of the habitat of the southwest Alaska population stock of sea otters. As sea otters typically inhabit nearshore marine areas, shoreline length is a readily-available metric that can be used to quantify sea otter habitat. The total length of shoreline within the range of the southwest Alaska stock of northern sea otters is approximately 19,531 km. By comparison, the shoreline of Surf Bay is approximately 7 km in length, which is less than 0.04 percent of the total available habitat.

(4) Monitoring requirements and mitigation measures are expected to significantly limit the number of incidental takes. Monitoring information collected during hovercraft testing and operations will provide the Service and the Applicants with more current information about sea otter distribution and abundance at Surf Bay on Akun Island. In the event that larger numbers of sea otters than have previously been observed are encountered at consistent locations, the Route Operations Manual will be revised to minimize incidents of harassment.

Negligible Impact

The Service finds that any incidental take by harassment that is reasonably likely to result from the proposed project will not adversely affect the southwest Alaska stock of northern sea otters through effects on rates of recruitment or survival, and will, therefore, have no more than a negligible impact on the stock. In making this finding, we considered the best available scientific information, including: (1) The biological and behavioral characteristics of the species; (2) the most recent information on distribution and abundance of sea otters within the area of the proposed activity; (3) the potential sources of disturbance during the proposed activity; and (4) the potential response of northern sea otters to disturbance.

The mitigation measures outlined above are intended to minimize the number of sea otters that may be disturbed by the proposed activity. Any impacts to individuals are expected to be limited to Level B harassment of short-term duration. Response of sea otters to disturbance will most likely be common behaviors such as diving and/or swimming away from the source of the disturbance. No take by injury or death is anticipated. The Service finds that the anticipated harassment caused by the proposed activities is not expected to adversely affect the species or stock through effects on annual rate of recruitment or survival.

Our finding of negligible impact applies to incidental take associated with the proposed activity as mitigated through this authorization process. This authorization establishes monitoring and reporting requirements to evaluate the potential impacts of the authorized activities, as well as mitigation measures designed to minimize interactions with, and impacts to, northern sea otters.

Impact on Subsistence

We find that the anticipated harassment caused by the project will not have an unmitigable adverse impact on the availability of northern sea otters for taking for subsistence uses during the period of the activity. In making this finding, we considered the timing and location of the project and subsistence harvest patterns, as reported through the MTRP, in the proposed project area.

Marine Mammal Monitoring

The applicant will conduct marine mammal monitoring during the Akutan Airport, Alaska—Airport Construction and Hovercraft Operation, in order to implement the mitigation measures that require real-time monitoring, and to satisfy monitoring called for under the MMPA. Project personnel will record information regarding location and behavior of all sea otters observed during operations. When conditions permit, information regarding age (pup, adult) and any tagged animals will also be recorded. The Applicants also propose to form an Akutan marine mammal workgroup in coordination with the City of Akutan, the Aleutians East Borough, the Service, and NMFS. This workgroup will consist of representatives from affected native organizations, the City of Akutan, FAA, and the Services. The workgroup will provide a forum to discuss hovercraft monitoring results and other issues pertaining to airport operations and northern sea otter conservation.

The workgroup shall discuss, among other things: (1) Any proposed changes in hovercraft operations to provide both FAA and the Service with community perspectives on airport operations, (2) monitoring frequency and duration based upon monitoring results and related factors, and (3) completion of peer reviews for reports that evaluate and interpret monitoring data. The Applicant will coordinate the formation of the workgroup, and will be responsible for organizing meeting agendas, establishing meeting locations, and facilitating community involvement at such meetings. Workgroup meetings shall commence within 60 days from FAA's approval of airport construction, and shall occur on a quarterly basis for a minimum of 5 years after hovercraft operations commence.

Monitoring and Reporting

The Applicants will implement the following monitoring and reporting program to increase knowledge regarding the species, and to assess the level of taking caused by the proposed action:

a. Vessel-Based Monitoring

Vessel-based monitoring will be conducted by a qualified Service-approved observer. Methods for observing, estimating distances to northern sea otters and other marine species, and recording data quickly and accurately will be tested prior to hovercraft operations at Akutan. Reticle binoculars (e.g., 7 x 50 Bushnell or equivalent) and laser range finders (Leica LRF 1200 laser range finder or equivalent) are considered standard equipment for observers on board ships with marine mammal observers. Final observation methods will be approved by the Service. During the first year of hovercraft operation, monitoring will occur each time the hovercraft operates during daylight hours, including during initial sea trials in the action area. Monitoring methods during periods of darkness will be developed with the Service prior to nighttime operations. Thereafter, monitoring will occur as directed by the Service.

Vessel-based observers will begin monitoring at least 30 minutes prior to the planned start of the hovercraft and during all periods of hovercraft operations to ensure the effectiveness of ramp-up as a mitigation measure. Observers will also monitor the safety areas prior to hovercraft operation. If northern sea otters are observed within the safety areas, hovercraft operations will be altered in accordance with procedures contained in the Route Operation Manual to avoid or minimize noise-related disturbance to animals occurring in the area.

Data for each northern sea otter, other marine mammals, and Steller's eiders observed in the action area during the period of hovercraft operations will be collected and provided to the Service in GIS format for mapping and analysis. Numbers of northern sea otters observed, frequency of observation, sea state, any behavioral changes due to hovercraft operations, and other pertinent variables will be recorded and entered into a custom database using a notebook computer. The accuracy of the data entry will be verified by computerized validity data checks as the data are entered, and by subsequent manual checking of the database. These procedures will allow initial summaries of data to be prepared during and shortly after the field program, and will facilitate transfer of the data to statistical, graphical, or other programs for additional processing and archiving.

Results from the vessel-based observations will provide: (1) A basis for real-time mitigation; (2) information needed to estimate the number of northern sea otters that are determined to have been harassed; (3) data on the occurrence, distribution, and activities of marine mammals in the area where hovercraft operations are conducted; and (4) data on the behavior and movement patterns of northern sea otters seen at times with and without hovercraft activity.

b. Aerial Monitoring

In addition to vessel monitoring, the applicant will conduct periodic aerial monitoring in and near the project area, including Surf Bay or other (undisturbed) areas that provide northern sea otter habitat. The aerial surveys will: (1) Collect and report data on the distribution, numbers, and general movements of northern sea otters in the project vicinity; (2) help inform operating vessels as to the presence of northern sea otters in the general area of operation; and (3) facilitate the estimation of impacts of hovercraft operations on northern sea otters. The aerial survey will be conducted after a research permit is obtained from the Service.

Aerial monitoring will be conducted on a monthly basis when feasible, in consultation with the Service, during the first year of hovercraft operation. One Service-approved observer will be on the aircraft observing and recording the location of northern sea otters. Space will be made available on the survey aircraft for Service staff to participate in surveys when possible.

Aerial survey observers will record the number, group size, location (latitude/longitude), time, date, direction, and angle from aircraft for each sea otter observed. Data will also be collected on tide, other pertinent environmental variables, and operational activities of the hovercraft (e.g., in operation, last time the hovercraft crossed the bay, present location of the hovercraft). Observation conditions will be recorded at the start and finish of each survey or whenever conditions change (e.g., ceiling height, sea state, glare, other weather factors).

c. Reporting

Reports on vessel-based and aerial monitoring will be sent to the Service by fax or electronic mail on a regular basis. Reports will describe hovercraft operations and northern sea otter monitoring activities during the reporting period. Frequency and specific content of reports will be determined based on consultation with the Service.

Upon completion of the first stage of operations, monitoring results will be compiled and provided to the Service's Marine Mammals Management Office (MMM) for review. Additional monitoring information will be collected, compiled, and provided to MMM throughout the life of the project.

Endangered Species Act

The proposed activity will occur within the range of the southwest Alaska DPS of the northern sea otter, which is presently listed as threatened under the ESA, as amended. The FAA and the Service's Anchorage Fish and Wildlife Field Office in Anchorage, Alaska, have consulted under Section 7 of the ESA, and concluded that the proposed activity will not jeopardize the southwest Alaska DPS of the northern sea otter.

National Environmental Policy Act (NEPA)

The applicant provided an FEA on the project. The Service finds that this FEA meets NEPA standards for analyzing the effects of the issuance of this IHA. To obtain a copy of the FEA, contact the individual identified in the ADDRESSES section.

Government-to-Government Relations With Native American Tribal Governments

In accordance with the President's memorandum of April 29, 1994, “Government-to-Government Relations with Native American Tribal Governments” (59 FR 22951), Executive Order 13175, Secretarial Order 3225, and the Department of the Interior's manual at 512 DM 2, we readily acknowledge our responsibility to communicate meaningfully with federally recognized Tribes on a Government-to-Government basis. On July 24, 2008, we contacted the Native Village of Akutan to offer Government-to-Government consultation on this project. The Tribal Administrator declined the offer, stating that their Tribe fully supports the development of an airport on Akun Island.

Proposed Authorization

The Service proposes to issue an IHA for small numbers of northern sea otters harassed incidentally by the Applicants while conducting Akutan Airport, Alaska—Airport Construction and Hovercraft Operation. The final IHA would specify the starting date (some time during the first quarter of 2009) and ending date (one year later) for the authorization. Authorization for incidental take beyond the period specified in the final IHA will require a request for renewal.

The final IHA would also incorporate the mitigation, monitoring, and reporting requirements discussed in this proposal. The Applicants will be responsible for following those requirements. These authorizations do not allow the intentional taking of northern sea otters.

If the level of activity exceeds that described by the Applicants, or the level or nature of take exceeds those projected here, the Service would reevaluate its findings. The Secretary may modify, suspend, or revoke an authorization if the findings are not accurate or the conditions described herein are not being met.

Public Comments Solicited

The Service requests interested persons to submit comments and information concerning this proposed IHA. Consistent with section 101(a)(5)(D)(iii) of the MMPA, we are opening the comment period on this proposed authorization for 30 days (see ADDRESSES).

Our practice is to make comments, including names and home addresses of respondents, available for public review during regular business hours. Individual respondents may request that we withhold their home address from the record, which we will honor to the extent allowable by law. If you wish us to withhold your name and/or address, you must state that prominently at the beginning of your comment. However, we will not consider anonymous comments. We will make all submissions from organizations or businesses, and from individuals identifying themselves as representatives or officials of organizations or businesses, available for public inspection in their entirety.

Dated: August 18, 2008.
Thomas O. Melius,
Regional Director, Alaska Region.

[FR Doc. E8-19731 Filed 8-26-08; 8:45 am]

BILLING CODE 4310-55-P